DEPARTMENT OF HEALTH AND HUMAN SERVICES

National Institutes of Health

Center for Scientific Review; Amended Notice of Meeting

Notice is hereby given of a change in the meeting of the Center for Scientific Review Special Emphasis Panel, PAR-20-181: Limited Competition: National Primate Research Centers (P51), July 01, 2021, 10:00 a.m. to July 02, 2021, 06:00 p.m., National Institutes of Health, Rockledge II, 6701 Rockledge Drive, Bethesda, MD 20892 which was published in the Federal Register on June 02, 2021, FR Doc 2021-11521, 86 FR 29590.

This meeting is being amended to change the start date from July 01, 2021 to June 29, 2021 and the start time from 10:00 a.m. to 12:30 p.m. The meeting is closed to the public.

Dated: June 22, 2021.
David W. Freeman,
Program Analyst, Office of Federal Advisory Committee Policy.

[FR Doc. 2021-13690 Filed 6-25-21; 8:45 am]

BILLING CODE 4140-01-P